DEPARTMENT OF HEALTH AND HUMAN SERVICES

National Institutes of Health

Prospective Grant of Exclusive Patent License: Development and Commercialization of Peptides Promoting Lipid Efflux for the Treatment of Hypertriglyceridemia, With or Without Concomitant Metabolic Syndrome

AGENCY: National Institutes of Health, HHS.

ACTION: Notice.

SUMMARY: The National Heart, Lung, and Blood Institute (NHLBI), an institute of the National Institutes of Health; an agency within the Department of Health and Human Services, is contemplating the grant of an exclusive patent license to commercialize the invention(s) embodied in the intellectual property estate stated in the Summary Information section of this notice to Corvidia Therapeutics Inc. (Corvidia) located in Waltham, MA and incorporated under the laws of Delaware.

DATES: Only written comments and/or applications for a license which are received by the NHLBI Office of Technology Transfer and Development on or before April 19, 2017 will be considered.

ADDRESSES: Requests for copies of the patent application, inquiries, and comments relating to the contemplated exclusive license should be directed to: Cristina Thalhammer-Reyero, Ph.D., MBA, Senior Licensing and Patenting Manager, NHLBI Office of Technology Transfer and Development, 31 Center Drive Room 4A29, MSC2479, Bethesda, MD 20892-2479; Telephone: +1-301-435-4507; Fax: +1-301-594-3080; Email: thalhamc@mail.nih.gov.

SUPPLEMENTARY INFORMATION: The following represents the intellectual property to be licensed under the prospective agreement:

U.S. Provisional Patent Application Serial No. 61/045,213, filed 04/15/2008; PCT Application No. PCT/US2009/040560, filed 04/14/2009; U.S. Patent Application Serial No.12/937,974, issued as 8,936,787 on 01/20/2015; Titled “Peptides Promoting Lipid Efflux” (NIH Reference No. E-138-2008/0).

With respect to persons who have an obligation to assign their right, title and interest to the Government of the United States of America, the patent rights in these inventions have been assigned to the Government of the United States of America.

The prospective exclusive license territory may be worldwide and the field of use may be limited to: “Treatment of Hypertriglyceridemia, with or without concomitant metabolic syndrome”.

The invention pertains to compositions and methods of use of ApoC-II mimetic peptides with multiple amphipathic alpha helical domains that have the dual ability to promote lipid efflux from cells and stimulate lipoprotein lipase activity, without inducing toxicity. This notice is made in accordance with 35 U.S.C. 209 and 37 CFR part 404. The prospective Exclusive Patent License will be royalty bearing and may be granted unless within fifteen (15) days from the date of this published notice, the NHLBI Office of Technology Transfer and Development receives written evidence and argument that establishes that the grant of the license would not be consistent with the requirements of 35 U.S.C. 209 and 37 CFR part 404.

Complete applications for a license in the prospective field of use that are timely filed in response to this notice will be treated as objections to the grant of the contemplated Exclusive Patent License. Comments and objections to this notice submitted will not be made available for public inspection and, to the extent permitted by law, will not be released under the Freedom of Information Act, 5 U.S.C. 552.

Dated: March 21, 2017.
Cristina Thalhammer-Reyero,
Senior Licensing and Patenting Manager, Office of Technology Transfer and Development, National Heart, Lung, and Blood Institute.

[FR Doc. 2017-06546 Filed 4-3-17; 8:45 am]

BILLING CODE 4140-01-P